DEPARTMENT OF COMMERCE

Economic Development Administration

Notice of Petitions by Producing Firms for Determination of Eligibility To Apply for Trade Adjustment Assistance

AGENCY: Economic Development Administration (EDA), Commerce.

ACTION: To Give Firms an Opportunity to Comment.

Petitions have been accepted for filing on the dates indicated from the firms listed below.

List of Petition Action by Trade Adjustment Assistance for Period 04/18/01-05/17/01
Firm name | Address | Date petition accepted | Product
Whitestone Acquistion Corporation | 4265 W. Vernal Pike, Bloomington, IN 47404 | 04/27/01 | Absorbent adult incontinence products, wearable and bedding.
NOG, Inc | 12510 West Libson Road, Brookfield, WI 53005 | 04/27/01 | Components of oilfield valves, of non-driving axles for heavy trucks and of agricultural and construction equipment.
Alperin, Inc | 1 Maxon Drive, Old Forge, PA 18518 | 04/27/01 | Mens and boys trousers and jackets.
Porterbilt Company, Inc. | 1727 Highway 93 South, Hamilton, MT 59840 | 04/27/01 | Treated and untreated wood posts and rails for fencing, railings for decks and porches.
Current Industries, Inc | 3720 Williamson Way, Bellingham, WA 98226 | 04/30/01 | Electronic components including pilot lamp assemblies and heavy duty battery kits for computer related and other industries.
Hood Cable Company | 6633 Highway 49 North, Hattiesburg, MS 39401 | 04/30/01 | Wiring assemblies for the automotive industry.
Faster Form Corporation | One Fast Form Circle, New Hartford, NY 13413 | 04/30/01 | Preserved and pressed floral giftware displays.
Central Decal Company, Inc | 6901 High Grove Blvd., Burr Ridge, IL 60521 | 05/04/01 | Adhesive-backed pressure sensitive labels and decals.
Clark's Gringo Foods, Inc | 4977 Old Christoval, San Angelo, TX 76904 | 05/04/01 | Salsa/chile mix.
Garden State Cutting Company, Inc | 217 Brook Avenue, Passaic, NJ 07055 | 05/15/01 | Apparel cutting contractor.
Hoggan Health Industries, Inc | 12411 South 265 West, Draper, UT 84020 | 05/15/01 | Exercise and medical fitness testing equipment.
Beistle Company | 1 Beistle Plaza, Shippensburg, PA 17257 | 05/15/01 | Holiday and party decorations made of paper.
Clothesmakers, Inc | 2240 Old Lake Mary Rd., Sanford, FL 32771 | 05/17/01 | Men's shirts of knitted fabric.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: May 16, 2001.
Anthony J. Meyer,
Coordinator, Trade Adjustment and Technical Assistance.

[FR Doc. 01-13234 Filed 5-24-01; 8:45 am]

BILLING CODE 3510-24-P